DEPARTMENT OF TRANSPORTATION

Pipeline and Hazardous Materials Safety Administration

Special Permit Applications

AGENCY: Office of Hazardous Materials Safety, Pipeline and Hazardous Materials Safety Administration (PHMSA), DOT.

ACTION: Notice of actions on Special Permit Applications.

SUMMARY: In accordance with the procedures governing the application for, and the processing of, special permits from the Department of Transportation's Hazardous Material Regulations (49 CFR Part 107, Subpart B), notice is hereby given of the actions on special permits applications in (August to August 2013). The mode of transportation involved are identified by a number in the “Nature of Application” portion of the table below as follows: 1—Motor vehicle, 2—Rail freight, 3—Cargo vessel, 4—Cargo aircraft only, 5—Passenger-carrying aircraft. Application numbers prefixed by the letters EE represent applications for Emergency Special Permits. It should be noted that some of the sections cited were those in effect at the time certain special permits were issued.

Issued in Washington, DC, on September 19, 2013.
Donald Burger,
Chief, Special Permits and Approvals.

S.P No. | Applicant | Regulation(s) | Nature of special permit thereof
MODIFICATION SPECIAL PERMIT GRANTED
13544-M | Carlson Logistics Inc., Sacramento, CA | 49 CFR 172.301(a), 172.301(c), and 172.401 | To modify the special permit to authorize the cylinders be transported on a flat bed, not enclosed and platform type trailers that are placarded.
15558-M | 3M Company, St. Paul, MN | 49 CFR 173.212, 172.302(a)(c) | To modify the special permit to authorize alternative packaging with a maximum capacity of 400 gallons.
13424-M | Taminco, Inc., Allentown, PA | 49 CFR 177.834(i)(3), 172.203(a), and 172.302(c) | To modify the special permit to remove the requirement that the video camera must be capable of panning.
14912-M | ITW Sexton, Decatur, AL | 49 CFR 173.304a and 173.306(a)(3)(ii) | To authorize the addition of a Division 2.1 material and require burst pressure of containers to not be below 480 psig.
15110-M | Kidde Technologies, Inc., dba Kidde Aerospace & Defense, Wilson, NC | 49 CFR 178.65 | To modify the special permit to authorize minor dimensional changes for the existing developmental drawing 348711 which is part of weldment design 447235, the addition of two new weldment designs, two additional Division 2.2 materials, and the use of these cylinders as components on US Naval Aircraft.
NEW SPECIAL PERMIT GRANTED
15839-N | Sensors, Inc., Saline, MI | 49 CFR 172.202, 172.301, 172.400 and 177.834(h) | To authorize the discharge of a Division 2.1 material from an authorized DOT specification cylinder without removing the cylinder from the vehicle on which it is transported. (mode 1)
15852-N | Nuance Medical, LLC, Carlsbad, CA | 49 CFR 173.304a(a)(1); 173.306(a) | To authorize the transportation in commerce of small units of certain compressed gas, intended for medical use as limited quantities and/or ORM-D. (modes 1, 2, 3, 4, 5)
EMERGENCY SPECIAL PERMIT GRANTED
15885-N | PHI, Inc., Lafayette, LA | 49 CFR 172.101 Table Column (9A) | To authorize the transportation in commerce of certain hazardous materials which exceed the authorized quantity limitations for passenger-carrying aircraft. (mode 5)
15951-N | Antonov Company, t/a Antonov Airlines, Kiev, NH | 49 CFR 49 CFR § 172.101 Column (9B) | To authorize the one-time transportation in commerce of certain explosives that are forbidden for transportation by cargo only aircraft. (mode 4)
NEW SPECIAL PERMIT WITHDRAWN
15850-N | Chart Industries, New Prague, MN | 49 CFR 173.315 | To authorize the manufacture, mark and sale of non-DOT specification tanks cars similar to DOT113C120W for the transportation in commerce of certain refrigerated liquids. (mode 2)
EMERGENCY SPECIAL PERMIT WITHDRAWN
15841-N | Franklin Composite Cylinder, LLC dba The Lite Cylinder Company, Franklin, TN | 49 CFR 173.304a(a)(1) | To authorize the manufacture, marking, sale and use of a non-DOT specification, liner-less, fully-wrapped fiberglass composite cylinder for the transportation in commerce of certain Division 2.1 and 2.2 materials. (modes 1, 2, 3, 4)

Denied
15862-N | Request by Veolia ES Technical Solutions, L.L.C. Flanders, NJ August 30, 2013. To authorize the transportation in commerce of Division 6.1, PG I materials in lab packs by motor vehicle, rail freight and cargo vessel.

[FR Doc. 2013-23459 Filed 9-25-13; 8:45 am]

BILLING CODE 4910-60-P